DEPARTMENT OF ENERGY

Environmental Assessment for a Radiological Work and Storage Building at the Knolls Atomic Power Laboratory Kesselring Site

AGENCY: Naval Nuclear Propulsion Program, Department of Energy.

ACTION: Notice of Availability of a Draft Environmental Assessment.

SUMMARY: Pursuant to the National Environmental Policy Act of 1969, as amended (NEPA) (42 U.S.C. 4321 et seq.); the Council on Environmental Quality Regulations for implementing the procedural provisions of NEPA (40 CFR parts 1500-1508); and the Department of Energy (DOE) implementing procedures (10 CFR part 1021); the Naval Nuclear Propulsion Program (NNPP) announces the availability of a Draft Environmental Assessment (EA) for construction and operation of a radiological work and storage building at the Knolls Atomic Power Laboratory (KAPL) Kesselring Site in West Milton, New York. A modernized facility is needed to streamline radioactive material handling and storage operations, permit demolition of aging facilities, and accommodate efficient maintenance of existing nuclear reactors. The Draft EA may be viewed at the Saratoga Springs Public Library in Saratoga Springs, NY, the Schenectady County Public Library (Niskayuna Branch) in Niskayuna, NY, or online at http://www.NNPP-NEPA.us/environmental_assessments/kesselring_site/rwsb_ea.

DATES: Interested parties are invited to provide comments regarding the Draft EA, on or before April 9, 2012, to ensure full consideration during the decision making process.

ADDRESSES: Written comments may be submitted by mail to: David Delwiche, Naval Reactors Laboratory Field Office, P.O. Box 1069, Schenectady, NY 12301.

Comments provided by email should be submitted to Kesselring_radbuilding2012@unnpp.gov.

Comments provided by phone should use 518-395-6366.

FOR FURTHER INFORMATION CONTACT: For further information about this project, contact Mr. David Delwiche, as described above.

SUPPLEMENTARY INFORMATION: The NNPP is responsible for all aspects of U.S. Navy nuclear power and propulsion, pursuant to 50 U.S.C. 2406, 2511. These responsibilities include design, maintenance, and safe operation of nuclear propulsion systems throughout their operational life cycles. A crucial component of this mission is to provide prospective Naval nuclear propulsion plant operators and officers with training and certification in the actual hands-on operation of a nuclear propulsion plant. Two land-based training platforms are located at the Knolls Atomic Power Laboratory Kesselring Site near West Milton, Saratoga County, New York.

The developed portion of the Kesselring Site consists of approximately 65 acres of land on an approximately 3900-acre reservation. Facilities on the site include three pressurized water naval nuclear propulsion plants, one of which has been permanently shut down, defueled, and is in the process of being dismantled. The site also contains administrative offices, machine shops, waste storage facilities, oil storage facilities, training facilities, chemistry laboratories, cooling towers and a boiler house.

The EA evaluates the potential environmental impacts of constructing and operating a new radiological work and storage building at the Knolls Atomic Power Laboratory Kesselring Site. A modernized radiological work and storage building would streamline radioactive material handling and storage operations, permit demolition of aging facilities, and accommodate efficient maintenance of existing operating nuclear reactors. No spent nuclear fuel would be handled or stored in any of the alternatives being considered. The potential environmental impacts associated with operations in the new facility or the alternatives is consistent with those already addressed in a previous Environmental Impact Statement associated with operations at the Kesselring Site, which concluded that impacts upon the environment would be small. Public comments to this draft EA must be received by April 9, 2012, to ensure their consideration in the preparation of the final EA and determination of whether a Finding of No Significant Impact or Environmental Impact Statement is appropriate.

Issued in Washington, DC, on March 2, 2012.
Alan R. Denko,
Deputy Director, Regulatory Affairs, Naval Nuclear Propulsion Program.

[FR Doc. 2012-5659 Filed 3-7-12; 8:45 am]

BILLING CODE 6450-01-P